DEPARTMENT OF HEALTH AND HUMAN SERVICES

Indian Health Service

Reimbursement Rates for Calendar Year 2013

AGENCY: Indian Health Service, HHS.

ACTION: Notice.

SUMMARY: Notice is given that the Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2013 for Medicare and Medicaid beneficiaries, and beneficiaries of other Federal programs, and for recoveries under the Federal Medical Care Recovery Act (42 U.S.C. 2651-2653). The Medicare Part A inpatient rates are excluded from the table below as they are paid based on the prospective payment system. Since the inpatient rates set forth below do not include all physician services and practitioner services, additional payment shall be available to the extent that those services are provided.

Inpatient Hospital Per Diem Rate (Excludes Physician/Practitioner Services)

Calendar Year 2013

Lower 48 States: $2,272

Alaska: $2,591

Outpatient Per Visit Rate (Excluding Medicare)

Calendar Year 2013

Lower 48 States: $330

Alaska: $541

Outpatient Per Visit Rate (Medicare)

Calendar Year 2013

Lower 48 States: $283

Alaska: $515

Medicare Part B Inpatient Ancillary Per Diem Rate

Calendar Year 2013

Lower 48 States: $483

Alaska: $846

Outpatient Surgery Rate (Medicare)

Established Medicare rates for freestanding Ambulatory Surgery Centers.

Effective Date for Calendar Year 2013 Rates

Consistent with previous annual rate revisions, the Calendar Year 2013 rates will be effective for services provided on/or after January 1, 2013 to the extent consistent with payment authorities including the applicable Medicaid State plan.

Dated: December 19, 2012.
Yvette Roubideaux,
Director, Indian Health Service.

[FR Doc. 2013-09030 Filed 4-16-13; 8:45 am]

BILLING CODE 4165-16-P